DEPARTMENT OF HEALTH AND HUMAN SERVICES

Centers for Disease Control and Prevention

[Program Announcement 02093]

Division of International Health/Global Surveillance Project Strengthening Outbreak Investigations and Response in Ghana; Notice of Award of Funds

A. Purpose

The Centers for Disease Control and Prevention (CDC) announces the award of fiscal year (FY) 2002 funds for a cooperative agreement program for the Division of International Health/Global Surveillance Project Strengthening Outbreak Investigations and Response in Ghana. This program addresses the “Healthy People 2010” focus area of Public Health Infrastructure.

The purpose of the program is to strengthen the ability of the Ministry(s) of Health (MOH) to identify, investigate, analyze, respond to and report on disease outbreaks and other unusual health events. By doing so, the agreement will result in strengthening the applied public health programs at the University.

B. Eligible Applicants

Assistance will be provided only to the University of Ghana. No other applications are solicited.

The University of Ghana Public Health School Without Walls (PHSWOW) is uniquely qualified as a partner since it has the only Masters of Public Health (MPH) program in the country. PHSWOW offers a one year MPH program to produce public health practitioners who will be leaders and change agents for health development in Ghana, in particular with the district as the focus, and Africa in general. This MPH is recognized throughout the region as proof of quality training in epidemiology, surveillance and other public health skills.

Note: Title two of the United States Code section 1611 states that an organization described in section 501(c)(4) of the Internal Revenue Code that engages in lobbying activities is not eligible to receive Federal funds constituting an award, grant or loan.

C. Funds

Approximately $40,000 is being awarded FY 2002 to fund one award. It is expected that the award will begin on or about June 1, 2002, and will be made for a 12-month budget period within a project period of up to three years. Funding estimates may change.

Continuation awards within an approved project period will be made on the basis of satisfactory progress as evidenced by required reports and the availability of funds.

D. Where To Obtain Additional Information

This and other CDC announcements can be found on the CDC home page Internet address— http://www.cdc.gov. Click on “Funding” then “Grants and Cooperative Agreements.”

To obtain business management technical assistance, contact: Cynthia Collins, Grants Management Specialist, Grants Management Branch, Procurement and Grants Office, Centers for Disease Control and Prevention, 2920 Brandywine Road, Room 3000, Atlanta, GA 30341-4146, Telephone number (770) 488-2757, e-mail address coc9@cdc.gov.

For program technical assistance, contact:

Dr. Peter Nsubuga, Medical Epidemiologist, Division of International Health, Epidemiology Program Office, Centers for Disease Control and Prevention, 4770 Buford Highway, MS-K72, Atlanta, GA 30341, Telephone number (770) 488-8334, e-mail address pcn0@cdc.gov.

or

Mr. B.J. (Bassam) Jarrar, Public Health Advisor, Division of International Health, Epidemiology Program Office, Centers for Disease Control and Prevention, 4770 Buford Highway, MS-K72, Atlanta, GA 30341, Telephone number (770) 488-8330, e-mail address bmj0@cdc.gov.

Dated: October 9, 2002.
Edward Schultz,
Acting Director, Procurement and Grants Office, Centers for Disease Control and Prevention.

[FR Doc. 02-26529 Filed 10-17-02; 8:45 am]

BILLING CODE 4163-18-P